Title 3—

The President

Proclamation 7691 of July 18, 2003

Captive Nations Week, 2003

By the President of the United States of America

A Proclamation

During Captive Nations Week, first declared in 1959 as a statement against the continuing Communist domination of Eastern Europe, America expresses its dedication to freedom and democracy. While many countries around the world uphold these principles, millions of people still live under regimes that violate their citizens' rights daily. In countries such as Burma and Iran, citizens lack the right to choose their government, speak out against oppression, and practice their religion freely. The despot who rules Cuba imprisons political opponents and crushes peaceful opposition, while in North Korea hundreds of thousands languish in prison camps and citizens suffer from malnutrition as the regime pursues weapons of mass destruction. Violence, corruption, and mismanagement reign in Zimbabwe and an authoritarian government in Belarus smothers political dissent.

Yet the cause of freedom is advancing. With the demise of the brutal regime of Saddam Hussein, the Iraqi people are no longer captives in their own country. Their freedom is evidence of the fall of one of the most oppressive dictators in history. Today, American and coalition forces are helping to restore civil order and provide critical humanitarian aid to the Iraqi people. Iraqis are now meeting openly and freely to discuss the future of their country. The United States vows to continue to work with those trying to bring about peaceful democratic change and greater respect for human rights.

The Congress, by Joint Resolution approved July 17, 1959, (73 Stat. 212), has authorized and requested the President to issue a proclamation designating the third week in July of each year as “Captive Nations Week.”

NOW, THEREFORE, I, GEORGE W. BUSH, President of the United States of America, do hereby proclaim July 20 through July 26, 2003, as Captive Nations Week. I call upon the people of the United States to observe this week with appropriate ceremonies and activities and to reaffirm their commitment to all those seeking liberty, justice, and self-determination.

IN WITNESS WHEREOF, I have hereunto set my hand this eighteenth day of July, in the year of our Lord two thousand three, and of the Independence of the United States of America the two hundred and twenty-eighth.

B

[FR Doc. 03-18897

Filed 7-22-03; 8:45 am]

Billing code 3195-01-P